DEPARTMENT OF COMMERCE

International Trade Administration

(A-570-851)

Certain Preserved Mushrooms from the People's Republic of China: Notice of Partial Rescission of Antidumping Duty Administrative Review

AGENCY: Import Administration, International Trade Administration, Department of Commerce.

EFFECTIVE DATE: August 22, 2006.

FOR FURTHER INFORMATION CONTACT: Brian Smith or Terre Keaton, AD/CVD Operations, Import Administration, International Trade Administration, U.S. Department of Commerce, 14th Street and Constitution Avenue, N.W., Washington, D.C. 20230; telephone: (202) 482-1766 or (202) 482-1280, respectively.

SUPPLEMENTARY INFORMATION:

Background

On February 1, 2006, the Department of Commerce (“the Department”) published in the Federal Register a notice of “Opportunity to Request Administrative Review” of the antidumping duty order on certain preserved mushrooms from the People's Republic of China (“PRC”) covering the period February 1, 2005, through January 31, 2006. See Antidumping or Countervailing Duty Order, Finding, or Suspended Investigation; Opportunity to Request Administrative Review, 71 FR 5239 (February 1, 2006). On February 27, 2006, Raoping CXF Foods (“Raoping CXF”) requested an administrative review of its sales. On February 28, 2006, the petitioner¹ requested an administrative review of the antidumping duty order for, among others, Blue Field (Sichuan) Food Industrial Co., Ltd. (“Blue Field”), Raoping Yucun Canned Foods Factory (“Raoping Yucun”), and Shandong Jiufa Edible Fungus Co., Ltd. (“Jiufa”).² On April 5, 2006, the Department published a notice of initiation of an administrative review of the antidumping duty order on certain preserved mushrooms from the PRC with respect to these companies. See Initiation of Antidumping and Countervailing Duty Administrative Reviews and Deferral of Administrative Reviews, 71 FR 17077, 17079 (April 5, 2006) (“Initiation Notice”).

¹ The petitioner is the Coalition for Fair Preserved Mushroom Trade which includes the following companies: L.K. Bowman, Inc., Monterey Mushrooms, Inc., Mushroom Canning Company, and Sunny Dell Foods, Inc.

² The petitioner also requested a review for the following companies: China National Cereals, Oils & Foodstuffs Import & Export Corporation, China Processed Food Import & Export Company, COFCO (Zhangzhou) Food Industrial Co., Ltd., Gerber Food (Yunnan) Co., Ltd., Green Fresh Foods (Zhangzhou) Co., Ltd., Guangxi Eastwing Trading Co., Ltd., Guangxi Hengxian Pro-Light Foods, Inc., Guangxi Yulin Oriental Food Co., Ltd., Primera Harvest (Xiangfan) Co., Ltd., and Xiamen Jiahua Import & Export Trading Co., Ltd.

On April 26, 2006, Raoping CXF withdrew its request for review. In addition, in response to the Department's April 6, 2006, quantity and value questionnaire, Blue Field, Jiufa, and Raoping Yucun each stated that it had no exports, sales or entries of subject merchandise to the United States during the period of review (“POR”).³

³ See Blue Field's April 27, 2006, letter at page 1; Raoping Yucun's April 26, 2006, letter at page 1; and Jiufa's April 18, 2006, letter at page 1.

On July 12, 2006, the Department placed on the record a list of manufacturers/exporters of the subject merchandise for which the Department initiated administrative reviews, and for which U.S. Customs and Border Protection (“CBP”) suspended liquidation of subject entries during the POR. See the July 12, 2006, memorandum from Brian Smith to the file entitled, “2005-2006 Administrative Review of Certain Preserved Mushrooms from the PRC: CBP List of Exporters” (“July 12, 2006, Memorandum”).

On August 2, 2006, the Department stated that the information contained in the July 12, 2006, Memorandum corroborated Blue Field's, Jiufa's, and Raoping Yucun's no-shipment claims for the POR, and that it intended to rescind the administrative review with respect to these companies. See the August 2, 2006, memorandum from Brian Smith to the file entitled, “Intent to Rescind in Part the Antidumping Duty Administrative Review on Certain Preserved Mushrooms from the PRC” (“August 2, 2006, Memorandum”). The Department also provided parties in this review until August 9, 2006, to submit comments on the August 2, 2006, Memorandum. On August 9, 2006, Jiufa stated that it did not oppose the Department's intention of rescinding this review with respect to Jiufa. No other parties submitted comments on the August 2, 2006, Memorandum.

Partial Rescission of Review

Section 351.213(d)(1) of the Department's regulations stipulates that the Secretary will rescind an administrative review, in whole or in part, if a party that requested a review withdraws the request within 90 days of the date of publication of notice of initiation of the requested review, unless the Secretary decides that it is reasonable to extend this time limit. In this case, Raoping CXF withdrew its request for review before the 90-day deadline. Because Raoping CXF was the only party to request the administrative review of itself, we are rescinding, in part, this review of the antidumping duty order on certain preserved mushrooms from the PRC with respect to Raoping CXF.

Section 351.213(d)(3) of the Department's regulations states that the Secretary may rescind an administrative review, in whole or in part, with respect to a particular exporter or producer, if the Secretary concludes that, during the period covered by the review, there were no entries, exports, or sales of the subject merchandise. Therefore, we are also rescinding this review with respect to Blue Field, Jiufa, and Raoping Yucun because the record evidence indicates that these companies did not export subject merchandise to the United States during the POR.

This review will continue with respect to the other companies listed in the Initiation Notice.

Assessment

The Department will instruct CBP to assess antidumping duties on all appropriate entries. Antidumping duties for the rescinded companies, where applicable, shall be assessed at a rate equal to the cash deposit of estimated antidumping duties required at the time of entry, or withdrawal from warehouse, for consumption, in accordance with 19 CFR 351.212(c)(1)(i). The Department will issue appropriate assessment instructions directly to CBP within 15 days of publication of this notice.

This notice is published in accordance with sections 751 and 777(i)(1) of the Tariff Act of 1930, as amended, and 19 CFR 351.213(d)(4).

Dated: August 17, 2006.
Gary Taverman,
Acting Deputy Assistant Secretary for Import Administration.

[FR Doc. E6-13876 Filed 8-21-06; 8:45 am]

BILLING CODE 3510-DS-S